ENVIRONMENTAL PROTECTION AGENCY

[FRL-6971-7]

Program Requirement Revisions Related to the Public Water System Supervision Program for the States of New Hampshire, Rhode Island, Vermont, and the Commonwealth of Massachusetts

AGENCY: Environmental Protection Agency (EPA).

ACTION: Notice.

SUMMARY: Notice is hereby given that the States of New Hampshire, Rhode Island and Vermont, and the Commonwealth of Massachusetts are in the process of revising their approved Public Water System Supervision Programs to meet the requirements of the Safe Drinking Water Act (SDWA).

Massachusetts, New Hampshire, Rhode Island and Vermont have all adopted regulations establishing Administrative Penalty Authority that apply to their respective Drinking Water Programs. They have submitted documentation, along with certification from their respective State Attorney General's office, indicating that the Administrative Penalty Authority currently in effect meets the minimum requirements set forth in the 1996 SDWA Amendments. EPA has determined that the Administrative Penalty Authority currently in effect for Massachusetts, New Hampshire, Rhode Island, and Vermont are no less stringent than corresponding federal requirements, as authorized under the Safe Drinking Water Act Amendments of 1996 and final rule provided on April 28, 1998 (63 FR 23362). Therefore, EPA intends to approve the Administrative Penalty Authority requirement for Massachusetts, New Hampshire, Rhode Island, and Vermont.

In addition, the State of Rhode Island has adopted drinking water regulations for Synthetic Organic Chemicals and Inorganic Chemicals (also known as Phase V Drinking Water Regulations) that correspond to the National Primary Drinking Water Regulations promulgated by EPA on July 17, 1992 (57 FR 31776). After additional review of the submitted documentation, EPA has determined that the State program revisions for its Phase V Drinking Water Regulations are no less stringent than the corresponding federal regulations. Therefore, EPA intends to approve this Public Water System Supervision Program requirement for Rhode Island.

Furthermore, EPA has determined that Rhode Island's Revised Public Water Supply Definition is no less stringent than the corresponding revised federal definition, as authorized under the Safe Drinking Water Act Amendments of 1996 and final rule provided on April 28, 1998 (63 FR 23362). Therefore, EPA also intends to approve this Public Water Supply Supervision Program requirement for Rhode Island.

DATES: All interested parties may request a public hearing for any of the above EPA determinations. A request for a public hearing must be submitted to the Regional Administrator at the address shown below on or before May 29, 2001. Frivolous or insubstantial requests for a hearing may be denied by the Regional Administrator. However, if a substantial request for a public hearing is made by this date, a public hearing will be held. If no timely and appropriate request for a hearing is received, and the Regional Administrator does not elect to hold a hearing on his/her own motion, this determination shall become final and effective on May 29, 2001.

Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 am and 4:00 pm, Monday through Friday, at the following office(s): U.S. Environmental Protection Agency, Office of Ecosystem Protection, One Congress Street, 11th floor, Boston, MA 02114.

For documents specific to that State/Commonwealth:

Massachusetts Department of Environmental Protection, Drinking Water Program, One Winter Street, Boston, MA 02108

New Hampshire Department of Environmental Services, Water Supply Engineering Bureau, P.O. Box 95, 6 Hazen Drive, Concord, NH 03302-0095

Rhode Island Department of Health, Office of Drinking Water Quality, 3 Capitol Hill, Cannon Building, Room 209, Providence, RI 02908-5097

Vermont Department of Environmental Conservation, Water Supply Division, 103 South Main Street, Waterbury, Vermont 05671-0403

FOR FURTHER INFORMATION CONTACT: David Chin, EPA-New England, Municipal Assistance Unit, Office of Ecosystem Protection (telephone 617-918-1764) regarding the Administrative Penalty Authority determinations, or Ellie Kwong, EPA-New England, Rhode Island State Program Unit, Office of Ecosystem Protection (telephone 617-918-1592) regarding Rhode Island's Phase V Rule and Revised Public Water Supply Definition determinations.

Authority: (Section 1401 and section 1413 of the Safe Drinking Water Act, as amended (1996), and 40 CFR Part 142).

Dated: April 18, 2001.
Ira W. Leighton,
Acting Regional Administrator, EPA-New England.

[FR Doc. 01-10512 Filed 4-26-01; 8:45 am]

BILLING CODE 6560-50-P